INTERNATIONAL TRADE COMMISSION

[Investigation No. 337-TA-1041]

Certain Digital Television Set-Top Boxes, Remote Control Devices, and Components Thereof; Commission Determination Not To Review an Initial Determination Granting Complainants' Motion for Termination of the Investigation Based on Withdrawal of the Complaint; Termination of the Investigation

AGENCY: U.S. International Trade Commission.

ACTION: Notice.

SUMMARY: Notice is hereby given that the U.S. International Trade Commission has determined not to review an initial determination (“ID”) (Corrected Order No. 16) of the presiding administrative law judge (“ALJ”) granting Complainants' motion for termination of the investigation based on withdrawal of the complaint. The investigation is terminated.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1041 on March 3, 2017, based on a complaint filed by Complainants OpenTV, Inc. of Mountain View, California; Nagra USA, Inc. of San Francisco, California; Nagravision SA of Cheseaux-sur-Lausanne, Switzerland; and Kudelski SA of Cheseaux-sur-Lausanne, Switzerland (collectively, “Complainants”). See 82 FR 12466-67 (Mar. 3, 2017). The complaint alleges violations of section 337 of the Tariff Act of 1930, as amended (19 U.S.C. 1337), based upon the importation into the United States, the sale for importation, and the sale within the United States after importation of certain digital television set-top boxes, remote control devices, and components thereof by reason of infringement of certain claims of U.S. Patent No. 6,345,389; U.S. Patent No. 7,028,327; and U.S. Patent No. 7,725,720. See id. The notice of investigation identified seventeen (17) Respondents (collectively, “Respondents”), namely: (i) Comcast Corporation of Philadelphia, Pennsylvania; Comcast Cable Communications, LLC of Philadelphia, Pennsylvania; Comcast Cable Communications Management, LLC of Philadelphia, Pennsylvania; Comcast Business Communications, LLC of Philadelphia, Pennsylvania; and Comcast STB Software I, LLC of Wilmington, Delaware (collectively, “Comcast”); (ii) ARRIS International plc of Suwanee, Georgia; ARRIS Group, Inc. of Suwanee, Georgia; ARRIS Technology, Inc. of Horsham, Pennsylvania; ARRIS Enterprises LLC of Suwanee, Georgia; ARRIS Solutions, Inc. of Suwanee, Georgia; ARRIS Global Ltd. (formerly Pace Ltd.) of Saltaire, England; Pace Americas, LLC of Boca Raton, Florida; and Pace USA, LLC of Boca Raton, Florida (collectively, “ARRIS”); and (iii) Universal Electronics Inc. of Santa Ana, California; Gemstar Technology (China) Co. Ltd. of Guangzhou, China; Gemstar Technology (Qinzhou) Co. Ltd. of Qinzhou, China; and Gemstar Technology (Yangzhou) Co. Ltd. of Baoying, China (collectively, “Universal Electronics”). See id. The Office of Unfair Import Investigations is also a party to this investigation. See id.

On July 21, 2017, Complainants filed a motion for termination of the investigation based on withdrawal of the complaint. On July 26, 2017, the Commission Investigative Attorney (“IA”) filed a response in support of Complainants' motion. Respondents did not oppose Complainants' motion. On August 11, 2017, the ALJ issued the subject ID, granting Complainants' motion for termination of the investigation. The ALJ found that “Complainants have met the requirements of Commission Rule 210.21(a)(1), and [] that good cause exists to grant the unopposed motion to terminate this investigation on the basis of withdrawal of the complaint.” See ID at 3. No party has filed a petition for review of the subject ID.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: August 17, 2017.
Lisa R. Barton,
Secretary to the Commission.

[FR Doc. 2017-17778 Filed 8-22-17; 8:45 am]

BILLING CODE 7020-02-P